FEDERAL COMMUNICATIONS COMMISSION

47 CFR Part 73

[DA 01-1804; MM Docket No. 01-170; RM-10190]

Radio Broadcasting Services; Pittsburg, NH

AGENCY: Federal Communications Commission.

ACTION: Proposed rule.

SUMMARY: This document requests comments on a petition for rule making filed on behalf of Pittsburg Broadcasting Company, requesting the allotment of Channel 246A to Pittsburg, New Hampshire, as that community's first local aural transmission service. Coordinates used for this proposal are 45-02-25 NL and 71-21-17 WL. Pittsburg is located within 320 kilometers (200 miles) of the U.S.-Canadian border and will result in a short-spacing to the proposed allotment of Channel 247C1 at Thetford Mines, Quebec at coordinates 46-03-28 NL and 71-36-06 WL. Therefore, concurrence in the requested allotment by the Canadian government as a specially negotiated short-spaced allotment, must be obtained. Although the Pittsburg proposal is also short-spaced to a proposed allotment on Channel 247C2 at Sherbrooke, Quebec, at coordinates 45-24-00 NL and 71-54-00, the Sherbrooke proposal has been scheduled for deletion.

DATES: Comments must be filed on or before September 17, 2001, and reply comments on or before October 2, 2001.

ADDRESSES: Secretary, Federal Communications Commission, Washington, DC 20554. In addition to filing comments with the FCC, interested parties should serve the petitioner's counsel, as follows: Mark N. Lipp, Esq., Shook Hardy & Bacon, L.L.P., 600 14th Street, NW., Suite 800, Washington, DC 20005.

FOR FURTHER INFORMATION CONTACT: Nancy Joyner, Mass Media Bureau, (202) 418-2180.

SUPPLEMENTARY INFORMATION: This is a synopsis of the Commission's Notice of Proposed Rule Making, MM Docket No. 01-170, adopted July 18, 2001, and released July 27, 2001. The full text of this Commission decision is available for inspection and copying during normal business hours in the FCC's Reference Information Center (Room CY-A257), 445 Twelfth Street, SW., Washington, DC. The complete text of this decision may also be purchased from the Commission's copy contractor, International Transcription Service, Inc., 1231 20th Street, NW., Washington, DC 20036, (202) 857-3800.

Provisions of the Regulatory Flexibility Act of 1980 do not apply to this proceeding.

Members of the public should note that from the time a Notice of Proposed Rule Making is issued until the matter is no longer subject to Commission consideration or court review, all ex parte contacts are prohibited in Commission proceedings, such as this one, which involve channel allotments. See 47 CFR 1.1204(b) for rules governing permissible ex parte contacts.

For information regarding proper filing procedures for comments, see 47 CFR §§ 1.415 and 1.420.

List of Subjects in 47 CFR Part 73

Radio broadcasting.

For the reasons discussed in the preamble, the Federal Communications Commission proposes to amend 47 CFR part 73 as follows:

PART 73—RADIO BROADCAST SERVICES

1. The authority citation for part 73 continues to read as follows:

Authority: 47 U.S.C. 154, 303, 334 and 336.

§ 73.202 [Amended]

2. Section 73.202(b), the Table of FM Allotments under New Hampshire, is amended by adding Pittsburg, Channel 246A.

Federal Communications Commission.
John A. Karousos,
Chief, Allocations Branch, Policy and Rules Division, Mass Media Bureau.

[FR Doc. 01-19847 Filed 8-7-01; 8:45 am]

BILLING CODE 6712-01-P